DEPARTMENT OF TRANSPORTATION

Federal Aviation Administration

14 CFR Part 39

[Docket No. FAA-2008-1328; Directorate Identifier 2008-CE-066-AD; Amendment 39-15776; AD 2008-26-10]

RIN 2120-AA64

Airworthiness Directives; Cessna Aircraft Company (Cessna) 172, 175, 177, 180, 182, 185, 206, 207, 208, 210, 303, 336, and 337 Series Airplanes

AGENCY: Federal Aviation Administration (FAA), DOT.

ACTION: Final rule; correction.

SUMMARY: The FAA is correcting an airworthiness directive (AD) that was published in the Federal Register. That AD applies to the products listed above. In the Information Heading and in the SUMMARY section of the published AD, we incorrectly included Cessna 188 series airplanes. In the Unsafe Condition section, we incorrectly designated that paragraph as (e) instead of (d). Also in the Compliance section, paragraph (f)(2), and in Figure 1, we incorrectly stated the mailing address for the report. We are issuing this document to help eliminate any confusion that this AD may have created in the Information Heading and in the SUMMARY and Unsafe Condition sections. This document corrects those errors. In all other respects, the original document remains the same.

DATES: This final rule is effective November 16, 2010. The effective date for AD 2008-26-10 remains January 5, 2009.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Ann Johnson, Aerospace Engineer, FAA, Wichita Aircraft Certification Office, 1801 Airport Road, Room 100, Wichita, Kansas 67209; telephone: 316-946-4105; fax: 316-946-4107; e-mail address: ann.johnson@faa.gov.

SUPPLEMENTARY INFORMATION: Airworthiness Directive 2008-26-10, Amendment 39-15776 (73 FR 78939, December 24, 2008), currently requires inspecting the alternate static air source selector valve to assure that the part number identification placard does not obstruct the alternate static air source selector valve port. If the part number identification placard obstructs the port, this AD also requires removing the placard, assuring that the port is unobstructed, and reporting to the FAA if obstruction is found for certain Cessna 172, 175, 177, 180, 182, 185, 206, 207, 208, 210, 303, 336, and 337 series airplanes.

As published, the Information Heading and the Summary sections of the AD incorrectly included Cessna 188 series airplanes. The Unsafe Condition section is incorrectly designated as paragraph (e) instead of paragraph (d). Also, the mailing address for the report specified in the Compliance section, paragraph (f)(2), and in Figure 1 is incorrectly stated as 1804 instead of 1801.

No other part of the preamble or regulatory information has been changed; therefore, only the changed portion of the final rule is being published in the Federal Register.

The effective date of AD 2008-26-10 remains January 5, 2009.

Correction of Non-Regulatory Text

In the Federal Register of December 24, 2008, AD 2008-26-10; Amendment 39-15776 is corrected as follows:

On page 78939, in the second column, on line 10, under the heading DEPARTMENT OF TRANSPORTATION, remove 188 from affected series airplanes.

On page 78939, in the second column, on line 19, under the heading DEPARTMENT OF TRANSPORTATION, in the SUMMARY section, remove 188 from affected series airplanes.

Correction of Regulatory Text

§ 39.13 [Corrected]

In the Federal Register of December 24, 2008, AD 2008-26-10; Amendment 39-15776 is corrected as follows:

On page 78942, in the first column, under the Unsafe Condition section, change paragraph (e) to (d).

On page 78943, in the second column, in paragraph (f)(2), on line 3, change 1804 to 1801.

On page 78943, in Figure 1, in the address for the Wichita Manufacturing Inspection District Office, change 1804 to 1801.

Issued in Kansas City, Missouri, on November 4, 2010.
James E. Jackson,
Acting Manager, Small Airplane Directorate, Aircraft Certification Service.

[FR Doc. 2010-28579 Filed 11-15-10; 8:45 am]

BILLING CODE 4910-13-P